DEPARTMENT OF COMMERCE

International Trade Administration

(A-580-816)

Corrosion-Resistant Carbon Steel Flat Products from Korea: Extension of Time Limits for the Final Results of Antidumping Duty Administrative Review

AGENCY: Import Administration, International Trade Administration, Department of Commerce.

FOR FURTHER INFORMATION CONTACT: Victoria Cho at (202) 482-5075, AD/CVD Operations, Office 3, Import Administration, International Trade Administration, U.S. Department of Commerce, 14th Street and Constitution Ave, NW., Washington, DC 20230.

SUPPLEMENTARY INFORMATION:

Background

On September 28, 2005, the U.S. Department of Commerce (“Department”) published a notice of initiation of the administrative review of the antidumping duty order on corrosion-resistant carbon steel flat products from Korea, covering the period August 1, 2004 to July 31, 2005. See Initiation of Antidumping and Countervailing Duty Administrative Reviews and Request for Revocation in Part, 70 FR 56631 (September 28, 2005). On September 11, 2006, the Department published the preliminary results of this review. See Certain Corrosion-Resistant Carbon Steel Flat Products from the Republic of Korea: Notice of Preliminary Results of Antidumping Duty Administrative Review, 71 FR 53370 (September 11, 2006). The final results of this review are currently due no later than January 9, 2007.

Extension of Time Limit of Preliminary Results

Section 751(a)(3)(A) of the Tariff Act of 1930, as amended (“the Act”), requires the Department to issue final results within 120 days after the date on which the preliminary results are published. However, if it is not practicable to complete the review within that time period, section 751(a)(3)(A) of the Act allows the Department to extend the time limit for the final results to a maximum of 180 days. See also 19 CFR 351.213(h)(2).

We determine that it is not practicable to complete the final results of this review within the original time limit because we need additional time to evaluate arguments and information submitted by the parties with respect to model-match methodology, indirect selling expenses, constructed export price offsets and duty drawback. Therefore, the Department is extending fully the time limit for the final results of the above-referenced review. As that date falls on a Saturday, the final results will be due no later than the next business day, Monday, March 12, 2007.

This extension is in accordance with section 751(a)(3)(A) of the Act and 19 CFR 351.213(h)(2).

Dated: December 22, 2006.
Gary Taverman,
Acting Deputy Assistant Secretary for Import Administration.

[FR Doc. E6-22495 Filed 12-29-06; 8:45 am]

BILLING CODE 3510-DS-S